FEDERAL COMMUNICATIONS COMMISSION

47 CFR Part 54

[WC Docket No. 13-184; FCC 14-99]

Modernization of the Schools and Libraries “E-Rate” Program

AGENCY: Federal Communications Commission.

ACTION: Final rule; announcement of effective date.

SUMMARY: On July 23, 2014, the Federal Communications Commission (Commission) released a document in (WC Docket No. 13-184, FCC 14-99; 79 FR 49160, August 19, 2014) which contained information collection requirements for the schools and libraries universal service mechanism (E-rate) which required approval from the Office of Management and Budget (OMB). The Office of Management and Budget (OMB) granted approval on October 27, 2014, under emergency processing for certain of the information collection requirements contained in the Report and Order as required by the Paperwork Reduction Act (PRA) of 1995 (44 U.S.C. 3501-3520).

DATES: The amendment to § 54.502(b)(2) that appeared in the Federal Register at 79 FR 49160 on August 19, 2014, and revised the information collection OMB 3060-0806 as approved by OMB, is effective January 5, 2015.

FOR FURTHER INFORMATION CONTACT: Lisa Hone, Wireline Competition Bureau at (202) 418-7400 or TTY (202) 418-0484.

SUPPLEMENTARY INFORMATION: The Federal Communications Commission has received OMB approval for the changes to E-rate rules contained in information collection OMB Control No: 3060-0806; Description of Services Requested and Certification; Description of Services Requested and Certification Instructions; Services Ordered and Certification; Services Ordered and Certification Instructions (FCC Form 470 and Instructions; FCC Form 471 and Instructions). The information collection was revised in the Report and Order and Further Notice of Proposed Rulemaking in WC Docket 13-184 which appears at 79 FR 49160, August 19, 2014. The rules adopted in the Report and Order that contain new or modified information collection requirements were not to become effective until approved by the Office of Management and Budget. Through this document, the Commission announces that it has received this approval (OMB Control No: 3060-0806, Expiration Date April 30, 2015) and that § 54.502(b)(2) is effective January 5, 2015.

Pursuant to the Paperwork Reduction Act of 1995, 44 U.S.C. 3501-3520, an agency may not conduct or sponsor a collection of information unless it displays a currently valid control number. Notwithstanding any other provisions of law, no person shall be subject to any penalty for failing to comply with the collection of information subject to the Paperwork Reduction Act that does not display a valid control number. Questions concerning the OMB control numbers and expiration dates should be directed to Leslie F. Smith, Federal Communications Commission, (202)418-0217 or via the Internet at Leslie.Smith@fcc.gov.

Federal Communications Commission.
Marlene H. Dortch,
Secretary.

[FR Doc. 2014-30775 Filed 1-2-15; 8:45 am]

BILLING CODE 6712-01-P